DEPARTMENT OF LABOR

Employment and Training Administration

[TA-W-54,635]

Westside Stitching, Inc., West Wyoming, PA; Notice of Negative Determination Regarding Application for Reconsideration

By application of July 12, 2004, a company official requested administrative reconsideration of the Department's negative determination regarding eligibility to apply for Trade Adjustment Assistance (TAA), applicable to workers and former workers of the subject firm. The denial notice was signed on June 16, 2004, and published in the Federal Register on July 7, 2004 (69 FR 40983).

Pursuant to 29 CFR 90.18(c) reconsideration may be granted under the following circumstances:

(1) If it appears on the basis of facts not previously considered that the determination complained of was erroneous;

(2) if it appears that the determination complained of was based on a mistake in the determination of facts not previously considered; or

(3) if in the opinion of the Certifying Officer, a misinterpretation of facts or of the law justified reconsideration of the decision.

The petition for the workers of Westside Stitching, Inc., West Wyoming, Pennsylvania engaged in production of motion furniture was denied because the “contributed importantly” group eligibility requirement of Section 222 of the Trade Act of 1974, as amended, was not met. The “contributed importantly” test is generally demonstrated through a survey of the workers' firm's customers. The survey revealed no increase of imports of motion furniture during the relevant period. The subject firm did not import motion furniture in the relevant period nor did it shift production to a foreign country.

The petitioner alleges that the subject firm lost its business due to its major customer importing products from China.

This customer was surveyed by the Department during the original investigation. A review of the survey confirmed no import purchases of motion furniture during the relevant period.

The petitioner further states that the subject firm manufactures only motion furniture, excluding any lift mechanisms, and that the subject firm's customers started importing a lift mechanism, a component to the motion furniture. The petitioner concludes that, because the production of lift mechanisms occurs abroad, the subject firm workers producing motion furniture are import impacted.

In order to establish import impact, the Department must consider imports that are like or directly competitive with those produced at the subject firm. The Department conducted a survey of the subject firm's major declining customer regarding their purchases of motion furniture. The survey revealed that the declining customers did not import motion furniture during the relevant period.

Conclusion

After review of the application and investigative findings, I conclude that there has been no error or misinterpretation of the law or of the facts which would justify reconsideration of the Department of Labor's prior decision. Accordingly, the application is denied.

Signed at Washington, DC this 3rd day of August, 2004.
Elliott S. Kushner,
Certifying Officer, Division of Trade Adjustment Assistance.

[FR Doc. 04-18342 Filed 8-10-04; 8:45 am]

BILLING CODE 4510-30-P